DEPARTMENT OF COMMERCE

Submission for OMB Review; Comment Request

The Department of Commerce has submitted to the Office of Management and Budget (OMB) for emergency clearance the following proposal for collection of information under the provisions of the Paperwork Reduction Act (44 U.S.C. Chapter 35).

Agency: National Institute of Standards and Technology (NIST).

Title: Survey of Companies Having Employees Present at WTC Buildings 1, 2, and 7 as Part of the NIST WTC Investigation.

Form Number(s): None.

OMB Approval Number: None.

Type of Request: Emergency.

Burden Hours: 862.

Number of Respondents: 606.

Average Hours per Response: 2 hours per response for companies; 15 minutes per response for family members.

Needs and Uses: NIST will be conducting the Investigation as requested under the WTC Report issued by Congress on February 8, 2002. The objectives of the NIST World Trade Center Investigation are to: (1) Determine technically, why and how buildings WTC 1, 2, and 7 collapsed following the initial impact of the aircraft; (2) Determine why the injuries and fatalities were so high or low depending on location, including all technical aspects of fire protection, response, evacuation, and occupant behavior and emergency response; (3) Determine the procedures and practices that were used in the design, construction, operation, and maintenance of the World Trade Center Buildings; and (4) Identify, as specifically as possible, building and fire codes, standards, and practices that warrant revision and are still in use. The proposed information collection will consist of a written request to company representatives asking for a list of contact information for employees present in World Trade Center Building 1, 2, or 7 on the morning of September 11, 2001 at the time of the first aircraft impact. Additionally, a web site will be set up in order to collect names and contact information of family members of victims of the collapse of WTC 1 and 2 who spoke to decedents after the building was struck by the first airplane. This information will be used to form a database of occupant contact information. The occupants may be contacted at a later date pursuant to a separate OMB request to voluntarily participate in interviews and/or focus groups to be conducted by the NIST Investigation. These interviews and focus groups will develop or refute investigatory hypotheses, support modeling results, and record events inside the buildings which cannot otherwise be determined. This information must be conducted in a timely manner in order to facilitate dissemination to other aspects of the Investigation, including structural analysis, emergency personnel response, thermal environment and interior tenability, and egress and human behavior analysis.

Affected Public: Business or other for-profit organizations, individuals or households.

Frequency: One-time.

Respondent Obligation: Voluntary.

OMB Desk Officer: Jacqueline Zeiher, (202) 395-4638.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent by March 31, 2003, to Jacqueline Zeiher, OMB Desk Officer, Room 10202, New Executive Office Building, Washington, DC 20503.

Dated: February 21, 2003.
Gwellnar Banks,
Management Analyst, Office of the Chief Information Officer.

[FR Doc. 03-4559 Filed 2-25-03; 8:45 am]

BILLING CODE 3510-13-P